DEPARTMENT OF HOMELAND SECURITY

[Docket No. CISA-2020-0018]

Agency Information Collection Activities: Proposed Collection; Comment Request; Cybersecurity and Infrastructure Security Agency (CISA) Visitor Request Form

AGENCY: Cybersecurity and Infrastructure Security Agency, DHS

ACTION: 60-Day notice and request for comments; extension of Information Collection Request: 1670-0036.

SUMMARY: The Department of Homeland Security (DHS), Cybersecurity and Infrastructure Security Agency (CISA), Office of Compliance and Security (OCS) will submit the following Information Collection Request to the Office of Management and Budget (OMB) for review and clearance in accordance with the Paperwork Reduction Act of 1995. The submission proposes to renew the information collection for an additional three years and update the burden estimates.

DATES: Comments are encouraged and will be accepted until April 19, 2021.

ADDRESSES: You may send comments, identified by docket number CISA-2020-0018, by one of the following methods:

• Federal eRulemaking Portal: http://www.regulations.gov . Please follow the instructions for submitting comments.

• Email: nppd-prac@hq.dhs.gov. Please include docket number CISA-2020-0018 in the subject line of the message.

• Mail: Written comments and questions about this Information Collection Request should be forwarded to DHS/CISA/OCS, ATTN: 1670-0036, 245 Murray Lane SW, Mail Stop 0380, Washington, DC 20598.

Instructions: All submissions received must include the words “Department of Homeland Security” and the docket number for this action. Comments received will be posted without alteration at http://www.regulations.gov, including any personal information provided.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

SUPPLEMENTARY INFORMATION: Public Law 107-296 The Homeland Security Act of 2002, Title II, recognizes the Department of Homeland Security role in integrate relevant critical infrastructure and cybersecurity information, analyses, and vulnerability assessments (whether such information, analyses, or assessments are provided or produced by the Department or others) in order to identify priorities for protective and support measures by the Department, other agencies of the Federal Government, State and local government agencies and authorities, the private sector, and other entities while maintaining positive control of sensitive information regarding the national infrastructure. In support of this mission CISA Office of Compliance and Security must maintain a robust visitor screening capability.

The CISA Office of Compliance and Security will collect, using an electronic form, information about each potential visitor to CISA facilities and the nature of each visit. The Office of Compliance and Security will use collected information to make a risk-based decision to allow visitor access to CISA facilities.

This is an extension of an existing information collection. The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Cybersecurity and Infrastructure Security Agency (CISA), Department of Homeland Security (DHS).

Title: Cybersecurity and Infrastructure Security Agency (CISA) Visitor Request Form.

OMB Control Number: 1670-0036.

Frequency: Annually.

Affected Public: Private and Public Sector.

Number of Respondents: 20,000.

Estimated Time per Respondent: 10 minutes.

Total Burden Hours: 3,333 hours.

Total Respondent Opportunity Cost: $125,144.

Total Respondent Out-of-Pocket Cost: $0.

Total Government Cost: $250,473.

Samuel Vazquez,
Acting Chief Information Officer, Department of Homeland Security, Cybersecurity and Infrastructure Security Agency.

[FR Doc. 2021-03104 Filed 2-16-21; 8:45 am]

BILLING CODE 9110-9P-P